DEPARTMENT OF LABOR

Employment and Training Administration

Public Meeting; Federal Committee on Registered Apprenticeship

AGENCY: Employment and Training Administration, Labor.

ACTION: Notice of meeting.

SUMMARY: Pursuant to section 10 of the Federal Advisory Committee Act (Pub. Laws 92-463; 5 U.S.C. APP. 1), notice is hereby given of a meeting of the Federal Committee on Registered Apprenticeship (FCRA).

TIME AND DATE: The meeting will begin a 9 a.m. on Thursday, March 30, 2000 and continue until approximately 5 p.m. The meeting will reconvene at 9 a.m. on Friday, March 31, 2000, and continue until approximately 12 noon.

PLACE: The Federal North Ballroom of the Holiday Inn on the Hill, DC, 415 New Jersey Avenue, Washington, DC 20001.

FOR FURTHER INFORMATION CONTACT: Mr. Anthony Swoope, Administrator, Office of Apprenticeship Training, Employer and Labor Services, Employment and Training Administration, U.S. Department of Labor, Room N-4649, 200 Constitution Avenue, NW., Washington, DC 20210. Telephone: (202) 219-5921 (this is not a toll-free number)

MATTERS TO BE CONSIDERED: The agenda will focus on the following topics:

(1) Reports on the FCRA Work Groups; Marketing, Quality, Diversity, Resources/Data, Legislative.

(2) National Military Apprenticeship Program Update.

(3) New Areas for Apprenticeship.

(4) Update Report on Apprenticeship Impact Project.

(5) Draft of White Paper.

(6) Report of National Association of State and Territorial Apprenticeship Directors (NASTAD) and Report of National Association of Government Labor Officials.

(7) Update on BAT Activities.

(8) Next Meeting Dates and Location.

(9) Public Comment.

STATUS: Members of the public are invited to attend the proceedings. Individuals with disabilities should contact Marion Winters at (202) 219-5921 no later than March 23, 2000, if special accommodations are needed.

Any member of the public who wishes to file written data or comments pertaining to the agenda may do so by sending it to Mr. Anthony Swoope, Administrator, Office of Apprenticeship Training, Employer and Labor Services, Employment and Training Administration, U.S. Department of Labor, Room N-4649, 200 Constitution Avenue, NW., Washington, DC 20210. Such submissions should be sent by March 24, 2000, to be included in the record for the meeting.

Any member of the public who wishes to speak at the meeting should indicate the nature of the intended presentation and the amount of time needed by furnishing a written statement to the Designated Federal official by March 24. The Chairperson will announce at the beginning of the meeting the extent to which time will permit the granting of such requests.

Signed at Washington, DC, this 9th Day of March 2000.
Raymond L. Bramucci,
Assistant Secretary for Employment and Training.

[FR Doc. 00-6385 Filed 3-14-00; 8:45 am]

BILLING CODE 4510-30-M